DEPARTMENT OF THE INTERIOR

National Park Service

Notice of Inventory Completion for Native American Human Remains and Associated Funerary Objects in the Control of the Arizona State Office, Bureau of Land Management, Phoenix, AZ

AGENCY: National Park Service, DoI.

ACTION: Notice.

Notice is hereby given in accordance with provisions of the Native American Graves Protection and Repatriation Act (NAGPRA), 43 CFR 10.9, of the completion of an inventory of human remains and associated funerary objects in the control of the Arizona State Office, Bureau of Land Management, Phoenix, AZ. This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Bureau of Land Management professional staff, Museum of Northern Arizona professional staff, and Arizona State Museum professional staff in consultation with representatives of the Hopi Tribe of Arizona; the Zuni Tribe of the Zuni Reservation, New Mexico; the Navajo Nation, Arizona, New Mexico and Utah; the Yavapai-Prescott Tribe of the Yavapai Reservation, Arizona; the Kaibab Band of Paiute Indians of the Kaibab Indian Reservation, Arizona; the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona; the Fort Mohave Indian Tribe of Arizona, California and Nevada; and the Colorado River Indian Tribes of the Colorado River Indian Reservation, Arizona and California.

In 1966, human remains representing 14 individuals were recovered during legally authorized salvage excavations of site AZ A:1:11(MNA) near Littlefield, AZ. No known individuals were identified. The 73 associated funerary objects include ceramics, projectile points, knives, scrapers, a palette, a piece of limonite, and several pieces of worked turquoise, stone, and bone.

Based on ceramics, architecture, and site organization, site AZ A:1:11(MNA) has been identified as a Puebloan habitation occupied during A.D. 1000-1200.

In 1968-1969, human remains representing one individual were recovered during legally authorized salvage excavations of site AZ A:1:12(MNA) near Littlefield, AZ. No known individual was identified. No associated funerary objects are present.

Based on its ceramics, site AZ A:1:12(MNA) has been identified as a Puebloan rock shelter occupied during A.D. 400-1150.

Continuities of ethnographic materials, technology, and architecture indicate affiliation of sites AZ A:1:11(MNA) and AZ A:1:12(MNA) with the present-day Hopi Tribe of Arizona. Oral traditions presented by representatives of the Hopi Tribe of Arizona support affiliation with Puebloan sites in this area of northwestern Arizona.

Based on the above-mentioned information, officials of the Bureau of Land Management have determined that, pursuant to 43 CFR 10.2(d)(1), the human remains listed above represent the physical remains of 15 individuals of Native American ancestry. Officials of the Bureau of Land Management also have determined that, pursuant to 43 CFR 10.2 (d)(2), the 73 objects listed above are reasonably believed to have been placed with or near individual human remains at the time of death or later as part of the death rite or ceremony. Lastly, officials of the Bureau of Land Management have determined that, pursuant to 43 CFR 10.2 (e), there is a relationship of shared group identity that can be reasonably traced between these Native American human remains and associated funerary objects and the Hopi Tribe of Arizona.

In 1977-1978, human remains representing 15 individuals were recovered during legally authorized salvage excavations of sites AZ Q:7:105(MNA) and AZ Q:2:11(MNA) near St. Johns, AZ. No known individuals were identified. The 345 associated funerary objects consist of bone beads and 2 pottery jars.

Based on ceramics, radiocarbon dating, and architecture, these sites have been identified as Puebloan habitations occupied during A.D. 925-1175.

In 1988, human remains representing one individual were recovered during a legally authorized testing and stabilization project at site AZ Q:3:97(ASM), known as Long H Ruin, near St. Johns, AZ. No known individuals were identified. No associated funerary objects are present.

Based on ceramics, architecture, and site organization, site AZ Q:3:97(ASM) has been identified as a Puebloan habitation dating to approximately A.D. 950-1050.

In 1984-1985, human remains representing three individuals were recovered during legally authorized salvage excavations of sites AZ Q:9:5(ASM), AZ Q:9:26(ASM) and AZ Q:9:30(ASM) near Showlow, AZ. The seven associated funerary objects, all from AZ Q:9:30(ASM), consist of ceramics and a stone axe fragment.

Based on ceramics, architecture, and site organization, these sites have been identified as Puebloan habitations occupied during A.D. 850-1150.

Continuities of ethnographic materials, technology, and architecture indicate affiliation of sites AZ Q:7:105(MNA), AZ Q:2:11(MNA), AZ Q:3:97(ASM), AZ Q:9:5(ASM), AZ Q:9:26(ASM), and AZ Q:9:30(ASM) with the present-day Hopi Tribe of Arizona and the Zuni Tribe of the Zuni Reservation, New Mexico. Oral traditions presented by representatives of the Hopi Tribe of Arizona and the Zuni Tribe of the Zuni Reservation, New Mexico support affiliation with Puebloan sites in this area of northeastern Arizona.

Based on the above-mentioned information, officials of the Bureau of Land Management have determined that, pursuant to 43 CFR 10.2(d)(1), the human remains listed above represent the physical remains of 19 individuals of Native American ancestry. Officials of the Bureau of Land Management also have determined that, pursuant to 43 CFR 10.2 (d)(2), the 352 objects listed above are reasonably believed to have been placed with or near individual human remains at the time of death or later as part of the death rite or ceremony. Lastly, officials of the Bureau of Land Management have determined that, pursuant to 43 CFR 10.2 (e), there is a relationship of shared group identity that can be reasonably traced between these Native American human remains and associated funerary objects and the Hopi Tribe of Arizona and the Zuni Tribe of the Zuni Reservation, New Mexico.

In 1960-1961, human remains representing two individuals were recovered during legally authorized salvage excavations of site AZ T:13:9(ASM) near Gila Bend, AZ. No known individuals were identified. No associated funerary objects are present.

Based on ceramics, architecture, and site organization, site AZ T:13:9(ASM) has been identified as Hohokam.

In 1985, human remains representing six individuals were recovered during legally authorized salvage excavations of sites AZ EE:1:154(ASM) and AZ EE:1:155(ASM) in the Santa Rita Mountains south of Tucson, AZ. No known individuals were identified. The 32 associated funerary objects consist of a pottery jar that contained the remains of one individual at AZ EE:155(ASM), and 22 complete and 9 fragmentary stone disk beads found with the individual at AZ EE:154(ASM).

Based on ceramics, archeomagnetic dating, architecture, and site organization, these sites have been identified as Hohokam habitations occupied during A.D. 700-1000.

Continuities of ethnographic materials, technology, and architecture indicate affiliation of sites AZ T:13:9(ASM), AZ EE:1:154(ASM) and AZ EE:1:155(ASM) with present-day Piman and O'odham cultures. Oral traditions presented by representatives of the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona support affiliation with Hohokam sites in southern Arizona.

Based on the above-mentioned information, officials of the Bureau of Land Management have determined that, pursuant to 43 CFR 10.2(d)(1), the human remains listed above represent the physical remains of eight individuals of Native American ancestry. Officials of the Bureau of Land Management also have determined that, pursuant to 43 CFR 10.2 (d)(2), the 32 objects listed above are reasonably believed to have been placed with or near individual human remains at the time of death or later as part of the death rite or ceremony. Lastly, officials of the Bureau of Land Management have determined that, pursuant to 43 CFR 10.2 (e), there is a relationship of shared group identity that can be reasonably traced between these Native American human remains and associated funerary objects and the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona.

In 1983 and 1985, human remains representing three individuals were recovered during legally authorized salvage excavations of site AZ U:15:109(ASM) at Florence, AZ. No known individuals were identified. The 72 associated funerary objects include ceramics, a shell pendant, animal bone fragments, a limonite crystal, and stone flakes.

Based on ceramics, site AZ U:15:109(ASM) has been identified as Hohokam. One of the burials was radiocarbon dated at A.D. 955-1135.

Between 1965-1974, human remains representing seven individuals were recovered from site AZ V:13:196(ASM) in the Dripping Spring Mountains south of Globe, AZ. No known individual was identified. No associated funerary objects are present.

Based on ceramics, site AZ V:13:196(ASM) has been recorded as Salado, dating from approximately A.D. 1200-1450.

Continuities of ethnographic materials, technology, and architecture indicate affiliation of sites AZ U:15:109(ASM) and AZ V:13:196(ASM) with present-day Piman, O'odham and Puebloan cultures. Oral traditions presented by representatives of the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona; the Hopi Tribe of Arizona; and the Zuni Tribe of the Zuni Reservation, New Mexico support affiliation with Hohokam and Salado sites in central Arizona.

Based on the above-mentioned information, officials of the Bureau of Land Management have determined that, pursuant to 43 CFR 10.2(d)(1), the human remains listed above represent the physical remains of 10 individuals of Native American ancestry. Officials of the Bureau of Land Management also have determined that, pursuant to 43 CFR 10.2 (d)(2), the 72 objects listed above are reasonably believed to have been placed with or near individual human remains at the time of death or later as part of the death rite or ceremony. Lastly, officials of the Bureau of Land Management have determined that, pursuant to 43 CFR 10.2 (e), there is a relationship of shared group identity that can be reasonably traced between these Native American human remains and associated funerary objects and the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona; the Hopi Tribe of Arizona; and the Zuni Tribe of the Zuni Reservation, New Mexico.

In 1987, human remains representing three individuals were recovered during legally authorized salvage excavations of site AZ EE:9:107(ASM) in Nogales, AZ. No known individuals were identified. No associated funerary object are present.

Based on ceramics and architecture, site AZ EE:9:107(ASM) was identified as a Hohokam village, dating to A.D. 700-1200.

In 1988, human remains representing two individuals were recovered during legally authorized salvage excavations of site AZ EE:4:9(BLM) along the San Pedro River near Fairbank, AZ. No known individuals were identified. No associated funerary objects are present.

Based on artifacts and site organization, site AZ EE:4:9(BLM) was identified as Sobaipuri.

Continuities of ethnographic materials, technology, and architecture indicate affiliation of sites AZ EE:9:107(ASM) and AZ EE:4:9(BLM) with present-day Piman and O'odham cultures. Oral traditions presented by representatives of the Ak-Chin Indian Community of the Maricopa (Ak-Chin) Indian Reservation, Arizona; the Gila River Indian Community of the Gila River Indian Reservation, Arizona; the Salt River Pima-Maricopa Indian Community of the Salt River Reservation, Arizona; and the Tohono O'odham Nation of Arizona support affiliation with Hohokam and Sobaipuri sites in southern Arizona.

Based on the above-mentioned information, officials of the Bureau of Land Management have determined that, pursuant to 43 CFR 10.2(d)(1), the human remains listed above represent the physical remains of five individuals of Native American ancestry. Officials of the Bureau of Land Management also have determined that, pursuant to 43 CFR 10.2 (e), there is a relationship of shared group identity that can be reasonably traced between these Native American human remains and the Ak-Chin Indian Community of the Maricopa (Ak-Chin) Indian Reservation, Arizona; the Gila River Indian Community of the Gila River Indian Reservation, Arizona; the Salt River Pima-Maricopa Indian Community of the Salt River Reservation, Arizona; and the Tohono O'odham Nation of Arizona.

In 1988, human remains representing one individual were recovered during legally authorized salvage excavations of site AZ M:15:5(BLM) near Smith Peak in southwestern Yavapai County, AZ. No known individuals were identified. No associated funerary objects are present.

The remains were radiocarbon dated to A.D. 930-1000. Based on age, location, and artifacts, site AZ M:15:5(BLM) was identified as Patayan.

Continuities of ethnographic materials and technology indicate affiliation of site AZ M:15:5(BLM) with present-day Yuman tribes along the Colorado River. Oral traditions presented by representatives of the Fort Mohave Indian Tribe and the Colorado River Indian Tribes support this affiliation.

Based on the above-mentioned information, officials of the Bureau of Land Management have determined that, pursuant to 43 CFR 10.2(d)(1), the human remains listed above represent the physical remains of one individual of Native American ancestry. Officials of the Bureau of Land Management also have determined that, pursuant to 43 CFR 10.2 (e), there is a relationship of shared group identity that can be reasonably traced between these Native American human remains and the Fort Mohave Indian Tribe of Arizona, California and Nevada; and the Colorado River Indian Tribes of the Colorado River Indian Reservation, Arizona and California.

This notice has been sent to officials of the Hopi Tribe of Arizona; the Zuni Tribe of the Zuni Reservation, New Mexico; the Navajo Nation, Arizona, New Mexico and Utah; the Yavapai-Prescott Tribe of the Yavapai Reservation, Arizona; the Kaibab Band of Paiute Indians of the Kaibab Indian Reservation, Arizona; the Ak-Chin Indian Community of the Maricopa (Ak-Chin) Indian Reservation, Arizona; the Gila River Indian Community of the Gila River Indian Reservation, Arizona; the Salt River Pima-Maricopa Indian Community of the Salt River Reservation, Arizona; the Tohono O'odham Nation of Arizona; the Fort Mohave Indian Tribe of Arizona, California and Nevada; and the Colorado River Indian Tribes of the Colorado River Indian Reservation, Arizona and California. Representatives of any other Indian tribe that believes itself to be culturally affiliated with these human remains and associated funerary objects should contact Gary Stumpf, Bureau of Land Management, Arizona State Office, 222 North Central Avenue, Phoenix, AZ 85004, telephone (602) 417-9509, before August 21, 2000. Repatriation of the human remains and associated funerary objects to the respective culturally affiliated Indian tribes may begin after that date if no additional claimants come forward.

Dated: June 13, 2000.
John Robbins,
Assistant Director, Cultural Resources Stewardship and Partnerships.

[FR Doc. 00-18460 Filed 7-20-00; 8:45 am]

BILLING CODE 4310-70-F